CONSUMER PRODUCT SAFETY COMMISSION

[Docket No. CPSC-2017-0044]

Agency Information Collection Activities; Extension of Collection; Safety Standard for Clothing Storage Units

AGENCY: Consumer Product Safety Commission.

ACTION: Notice of Information Collection; Request for comment.

SUMMARY: As required by the Paperwork Reduction Act of 1995 (PRA), the Consumer Product Safety Commission (CPSC or Commission) announces that the Commission has submitted to the Office of Management and Budget (OMB) a request for extension of approval of information collection requirements associated with the Safety Standard for Clothing Storage Units. OMB previously approved the collection of information under control number 3041-0191. OMB's most recent extension of approval will expire on February 28, 2026. On November 28, 2025, CPSC published a notice in the Federal Register to announce the agency's intention to seek extension of approval of the collection of information. The Commission received one public comment in support of this information collection. Therefore, by publication of this notice, the Commission announces that CPSC has submitted to OMB a request for extension of approval of that collection of information.

DATES: Submit comments on the collection of information by March 2, 2026.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2017-0044.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Safety Standard for Clothing Storage Units.

OMB Number: 3041-0191.

Type of Review: Renewal of collection.

Frequency of Response: On occasion.

Affected Public: Manufacturers and importers of clothing storage units.

General Description of Collection: Pursuant to 15 U.S.C. 2056f, CPSC promulgated a consumer product safety standard to protect against tip-over of clothing storage units (CSUs). 16 CFR part 1261. That standard incorporates by reference ASTM F2057-23, Standard Safety Specification for Clothing Storage Units. Id. 1261.2. A CSU is defined as a “furniture item with drawers and/or hinged doors intended for the storage of clothing typical with bedroom furniture.” Section 3.1.3, ASTM F2057-23. The standard's requirements include warning labels that contain certain statements and pictograms. These requirements fall within the definition of “collection of information,” as defined in 44 U.S.C. 3502(3).

Identification and labeling requirements provide information to consumers and regulators needed to locate and recall noncomplying products. Identification and labeling requirements include content such as the name and address of the manufacturer. In addition, CSUs must contain warning labels. Warning labels or markings provide information to consumers on hazards and risks associated with product use. The CSU warning label must state: “Children have died from furniture tipover.” Section 10.2.3.1, ASTM F2057-23.

Estimated Number of Respondents: CPSC estimates that approximately 2,122 respondents will design and update the CSU label annually.¹ CPSC estimates that there are approximately 20,103,360 CSU units that will need to be labeled annually.

¹ According to 2023 County Business Patterns data published by the U.S. Census Bureau there were between 2,075 and 3,955 establishments manufacturing household furniture: Table CB2300CBP; Upper bound NAICS 33712 (Household and institutional furniture manufacturing), lower bound NAICS 337122 (Nonupholstered wood household furniture manufacturing).

Estimated Time per Response: The burden associated with the standard includes time spent updating/designing the labeling or marking for a CSU model and time spent attaching the label to a CSU. CPSC estimates that it could take an hour to update/design the labeling or marking for a CSU model. CPSC estimates it could take 0.06 minutes (3.6 seconds or 1,000 labels per hour) to attach the label to the CSU.

Total Estimated Annual Burden: CPSC estimates that it could take an hour to update/design the labeling or marking for a CSU model, therefore, the annual burden is 2,122 hours (based on 2,122 respondents). CPSC estimates that attaching the label to CSUs would amount to an annual burden of 20,103 hours [(0.06 min × 20,103,360 CSUs)/60 mins per hour]. The total estimated annual burden is 22,225 hours.

Total Estimated Annual Cost to Respondents: The total compensation cost per hour worked for private industry workers in goods-producing industries was $47.00 (March 2025, Table 4, https://www.bls.gov/news.release/archives/ecec_06132025.pdf). Based on this analysis, CPSC estimates that the labor cost of respondent burden is approximately $1 million annually [(2,122 hours + 20,103 hours) × $47.00 per hour = $1,044,575].

In addition to the labor burden costs addressed above, the labeling requirement imposes additional annualized costs. These costs include capital costs for adhesive paper used for each label to be placed on the CSUs. CPSC estimates the cost of the printed label will be about $0.01. Therefore, the total cost of materials to industry would be about $200,000 per year ($0.01 × 20,103,360 units = $201,033.60).

Alberta E. Mills,
Secretary, Consumer Product Safety Commission.

[FR Doc. 2026-01885 Filed 1-29-26; 8:45 am]

BILLING CODE 6355-01-P